DEPARTMENT OF COMMERCE

International Trade Administration

[A-588-833]

Stainless Steel Bar From Japan: Final Results of Antidumping Duty Administrative Review

AGENCY: Import Administration, International Trade Administration, Department of Commerce.

ACTION: Notice of Final Results of Antidumping Duty Administrative Review.

SUMMARY: On July 31, 2002, the Department of Commerce published the preliminary results of an administrative review of the antidumping duty order on stainless steel bar from Japan for sales made by Aichi Steel Works, Ltd., for the period February 1, 2001, through January 31, 2002. We gave interested parties an opportunity to comment on the preliminary results of review but received no comments. Therefore, these final results of review have not changed from those presented in the preliminary results of review, in which we applied total adverse facts available.

EFFECTIVE DATE: October 4, 2002.

FOR FURTHER INFORMATION CONTACT: Brian Ellman, AD/CVD Enforcement 3, Import Administration, International Trade Administration, U.S. Department of Commerce, 14th Street and Constitution Avenue, N.W., Washington, D.C. 20230; telephone (202) 482-4852.

SUPPLEMENTARY INFORMATION:

The Applicable Statute and Regulations

Unless otherwise indicated, all citations to the Tariff Act of 1930, as amended (the Act), are references to the provisions effective January 1, 1995, the effective date of the amendments made to the Act by the Uruguay Round Agreements Act. In addition, unless otherwise indicated, all citations to the Department of Commerce's (the Department's) regulations are to the regulations codified at 19 CFR Part 351 (April 2001).

Background

On July 31, 2002, the Department published in the Federal Register (67 FR 49673) the preliminary results of the review of this order. In the preliminary results, we determined a weighted-average dumping margin of 61.47 percent for Aichi Steel Works, Ltd. (Aichi), for the period February 1, 2001, through January 31, 2002. We gave interested parties an opportunity to comment on our preliminary results. We received no comments. The Department has now completed the administrative review in accordance with section 751 of the Act.

Scope of Order

The merchandise covered by this order is stainless steel bar. For purposes of this order, the term “stainless steel bar” means articles of stainless steel in straight lengths that have been either hot-rolled, forged, turned, cold-drawn, cold-rolled or otherwise cold-finished, or ground, having a uniform solid cross-section along their whole length in the shape of circles, segments of circles, ovals, rectangles (including squares), triangles, hexagons, octagons or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross-section along their whole length, which do not conform to the definition of flat-rolled products), and angles, shapes and sections.

The stainless steel bar subject to this order is currently classifiable under subheadings 7222.11.00, 7222.19.00, 7222.20.00 and 7222.30.00 of the Harmonized Tariff Schedule of the United States (HTSUS). Although the HTSUS subheadings are provided for convenience and customs purposes, the written description of the scope of the order is dispositive.

Final Results of the Review

We received no comments from interested parties, and we have determined that no changes to the preliminary results are warranted for these final results. Therefore, the weighted-average dumping margin for Aichi for the period February 1, 2001, through January 31, 2002, is 61.47 percent.

The Department will determine, and the Customs Service shall assess, antidumping duties on all appropriate entries. The rate of 61.47 percent will be assessed uniformly on all entries of Aichi merchandise made during the period of review. The Department will issue appropriate assessment instructions directly to the Customs Service within 15 days of publication of these final results of review.

Furthermore, the following deposit rates will be effective upon publication of these final results for all shipments of the subject merchandise entered, or withdrawn from warehouse, for consumption on or after the publication date as provided for by section 751(a)(1) of the Act: (1) the cash deposit rate for Aichi will be 61.47 percent; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) for all other producers and/or exporters of this merchandise, the cash deposit rate shall be 61.47 percent, the “all others'' rate established in the LTFV investigation (59 FR 66930, December 28, 1994). This deposit rate shall remain in effect until publication of the final results of the next administrative review.

Pursuant to 19 CFR 351.402(f)(2) this notice serves as a final reminder to importers of their responsibility to file a certificate regarding the reimbursement of antidumping duties prior to liquidation of the relevant entries during this review period. Failure to comply with this requirement could result in the Secretary's presumption that reimbursement of antidumping duties occurred and the subsequent assessment of double antidumping duties.

This notice also serves as the only reminder to parties subject to administrative protective order (APO) of their responsibility concerning the disposition of proprietary information disclosed under APO in accordance with 19 CFR 351.305(a)(3). Timely notification of return or destruction of APO materials or conversion to judicial protective order is hereby requested. Failure to comply with the regulations and the terms of an APO is a sanctionable violation.

We are issuing and publishing this determination in accordance with sections 751(a)(1) and 777(i)(1) of the Act and 19 CFR 351.221(b)(5).

Dated: September 30, 2002.
Faryar Shirzad,
Assistant Secretary for Import Administration.

[FR Doc. 02-25304 Filed 10-3-02; 8:45 am]

BILLING CODE 3510-DS-S